DEPARTMENT OF TRANSPORTATION

Federal Aviation Administration

14 CFR Part 97

[Docket No. 30420; Amdt. No. 3102]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective August 9, 2004. The compliance date for each SIAP is specified in the amendatory provisions.

The incorporation by reference of certain publications listed in the regulations is approved by the Director of the Federal Register as of August 9, 2004.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The National Archives and Records Administration (NARA). For information on the availability of this material at NARA, call 202-741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on July 30, 2004.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective September 30, 2004

Prescot, AZ, Ernest A. Love Field, RNAV (GPS) Rwy 21L, Amdt 1

Corning, AR, Corning Muni, RNAV (GPS) Rwy 18, Orig

Corning, AR, Corning Muni, RNAV (GPS) Rwy 36, Orig

Corning, AR, Corning Muni, GPS Rwy 18, Orig-A, Cancelled

Corning, AR, Corning Muni, GPS Rwy 36, Orig-A, Cancelled

Corning, AR, Corning Muni, VOR/DME-A, Amdt 2

Magnolia, AR, Magnolia Muni, RNAV (GPS) Rwy 18, Orig

Magnolia, AR, Magnolia Muni, RNAV (GPS) Rwy 36, Orig

Magnolia, AR, Magnolia Muni, GPS Rwy 18, Amdt 1, Cancelled

Magnolia, AR, Magnolia Muni, GPS Rwy 36, Amdt 1, Cancelled

Rogers, AR, Rogers Municipal-Carter Field, RNAV (GPS) Rwy 1, Orig

Rogers, AR, Rogers Municipal-Carter Field, GPS Rwy 1, Orig-A, Cancelled

Rogers, AR, Rogers Municipal-Carter Field, NDB Rwy 19, Amdt 1

Rogers, AR, Rogers Municipal-Carter Field, ILS or LOC Rwy 19, Amdt 3

Rogers, AR, Rogers Municipal-Carter Field, RNAV (GPS) Rwy 19, Orig

Alturas, CA, Alturas Muni, RNAV (GPS) Rwy 31, Orig

Alturas, CA, Alturas Muni, GPS Rwy 31, Orig-A, Cancelled

Oakland, CA, Metropolitan Oakland Intl, VOR Rwy 9R, Amdt 8

Oakland, CA, Metropolitan Oakland Intl, VOR/DME Rwy 27L, Amdt 11B

San Luis Obispo, CA, San Luis County Regional, VOR or TACAN-A, Amdt 6B

Vacaville, CA, Nut Tree, RNAV (GPS) Rwy 20, Orig

Vacaville, CA, Nut Tree, VOR-A, Amdt 4B

Vacaville, CA, Nut Tree, GPS Rwy 20, Amdt 1B, Cancelled

Tallahassee, FL, Tallahassee Regional, RADAR-1, Amdt 5

Tallahassee, FL, Tallahassee Regional, NDB Rwy 36, Amdt 20

Tallahassee, FL, Tallahassee Regional, VOR Rwy 18, Amdt 11

Tallahassee, FL, Tallahassee Regional, ILS or LOC/DME Rwy 36, Amdt 24

Tallahassee, FL, Tallahassee Regional, ILS or LOC Rwy 27, Amdt 8; ILS Rwy 27 (CAT II), Amdt 8

Tallahassee, FL, Tallahassee Regional, RNAV (GPS) Rwy 36, Orig

Tallahassee, FL, Tallahassee Regional, RNAV (GPS) Rwy 18, Orig

Tallahassee, FL, Tallahassee Regional, RNAV (GPS) Rwy 9, Amdt 1

Tallahassee, FL, Tallahassee Regional, RNAV (GPS) Rwy 27, Amdt 1

Arco, ID, Arco-Butte County, RNAV (GPS)-A, Orig

Sandpoint, ID, Sandpoint, LOC/DME-A, Amdt 1

Marion, IN, Marion Muni, RNAV (GPS) Rwy 4, Orig

New Orleans, LA, Louis Armstrong New Orleans Intl, RNAV (GPS) Y Rwy 19, Orig-A

New Orleans, LA, Louis Armstrong New Orleans Intl, RNAV (GPS) Z Rwy 19, Orig-A

New Orleans, LA, Louis Armstrong New Orleans Intl, ILS or LOC Rwy 28, Amdt 6

New Orleans, LA, Louis Armstrong New Orleans Intl, RNAV (GPS) Rwy 28, Orig-A

Tupelo, MS, Tupelo Regional, ILS or LOC Rwy 36, Amdt 7D

St. Louis, MO, Lambert-St. Louis Intl, ILS or LOC Rwy 6, Amdt 1

St. Louis, MO, Lambert-St. Louis Intl, ILS or LOC Rwy 24, Amdt 46

Polson, MT, Polson, RNAV (GPS) Rwy 18, Orig

Polson, MT, Polson, RNAV (GPS) Rwy 36, Orig

Stevensville, MT, Stevensville, GPS-A, Orig-A, Cancelled

Stevensville, MT, Stevensville, RNAV (GPS)-A, Orig

Lexington, NE, Jim Kelly Field, VOR Rwy 14, Amdt 4

Lexington, NE, Jim Kelly Field, NDB Rwy 14, Amdt 3

Lexington, NE, Jim Kelly Field, RNAV (GPS) Rwy 14, Orig

Lexington, NE, Jim Kelly Field, RNAV (GPS) Rwy 32, Orig

Lexington, NE, Jim Kelly Field, GPS Rwy 32, Orig-A, Cancelled

Belen, NM, Alexander Muni, RNAV (GPS) Rwy 21, Orig

Belen, NM, Alexander Muni, GPS Rwy 21, Orig, Cancelled

Clovis, NM, Clovis Muni, RNAV (GPS) Rwy 4, Orig

Clovis, NM, Clovis Muni, RNAV (GPS) Rwy 22, Orig

Clovis, NM, Clovis Muni, RNAV (GPS) Rwy 30, Orig

Clovis, NM, Clovis Muni, GPS Rwy 4, Orig, Cancelled

Clovis, NM, Clovis Muni, GPS Rwy 22, Orig-A, Cancelled

Clovis, NM, Clovis Muni, GPS Rwy 30, Amdt 1, Cancelled

Tucumcari, NM, Tucumcari Muni, RNAV (GPS) Rwy 3, Orig

Tucumcari, NM, Tucumcari Muni, GPS Rwy 3, Orig-A, Cancelled

Tucumcari, NM, Tucumcari Muni, RNAV (GPS) Rwy 21, Orig

Tucumcari, NM, Tucumcari Muni, VOR Rwy 21, Amdt 6

Tucumcari, NM, Tucumcari Muni, RNAV (GPS) Rwy 26, Orig

Tucumcari, NM, Tucumcari Muni, VOR Rwy 26, Amdt 6

Punxsutawney, PA, Punxsutawney Muni, RNAV (GPS) Rwy 25, Orig

Punxsutawney, PA, Punxsutawney Muni, VOR/DME-A, Amdt 1

Isla De Vieques, PR, Antonio Rivera Rodriguez, RNAV (GPS) Rwy 9, Amdt 1A

Eastland, TX, Eastland Muni, RNAV (GPS) Rwy 35, Amdt 1

Palestine, TX, Palestine Muni, VOR/DME Rwy 18, Amdt 5

Palestine, TX, Palestine Muni, NDB Rwy 18, Amdt 4

Palestine, TX, Palestine Muni, RNAV (GPS) Rwy 18, Orig

Palestine, TX, Palestine Muni, NDB Rwy 36, Amdt 8

Palestine, TX, Palestine Muni, RNAV (GPS) Rwy 36, Amdt 1

Petersburg, VA, Dinwiddie County, VOR Rwy 23, Amdt 5

Petersburg, VA, Dinwiddie County, LOC Rwy 5, Amdt 1

Petersburg, VA, Dinwiddie County, NDB Rwy 5, Amdt 5

Petersburg, VA, Dinwiddie County, RNAV (GPS) Rwy 5, Orig

Petersburg, VA, Dinwiddie County, RNAV (GPS) Rwy 23, Orig

[FR Doc. 04-17927 Filed 8-6-04; 8:45 am]

BILLING CODE 4910-13-P